DEPARTMENT OF COMMERCE

International Trade Administration

[A-570-504]

Notice of Extension of Time Limit for Final Results of Antidumping Administrative Review: Petroleum Wax Candles from the People's Republic of China

AGENCY: Import Administration, International Trade Administration, Department of Commerce.

EFFECTIVE DATE: January 5, 2001.

FOR FURTHER INFORMATION CONTACT: Matthew Renkey or Abdelali Elouaradia, Import Administration, International Trade Administration, U.S. Department of Commerce, 14th Street and Constitution Avenue, NW., Washington, DC 20230; telephone: (202) 482-2312 and (202) 482-1374, respectively.

The Applicable Statute

Unless otherwise indicated, all citations to the Tariff Act of 1930, as amended (the Act) are to the provisions effective January 1, 1995, the effective date of the amendments made to the Act by the Uruguay Round Agreements Act. In addition, unless otherwise indicated, all citations to the Department's regulations are to 19 CFR part 351 (1999).

Background

On August 13, 1999, in accordance with 19 CFR 351.213(b), counsel for three PRC companies requested that we conduct an administrative review. These three companies were Shanghai Gift and Travel Products Import and Export Corporation, Liaoning Native Product Import and Export Corporation, and Tianjin Native Produce Import and Export Group Corporation, Ltd. On August 31, 1999, the National Candle Association (petitioner), requested that we conduct an administrative review of twenty-two specific producers/exporters. On October 1, 1999, the Department published its initiation of this administrative review for the period August 1, 1998 through July 31, 1999 (64 FR 53318). On September 7, 2000, the Department published the preliminary results of this review (65 FR 54224).

Extension of Time Limits for Final Results

Due to the complexities involved with this particular case, including whether a respondent is eligible for a separate rate and the choice of adverse facts available, we find that it is not practicable to make a final determination by the current deadline of January 5, 2001. Therefore, in accordance with section 751(a)(3)(A) of the Act and section 351.213(h)(2) of the Department's regulations, the Department is extending the time period for issuing the final results of this review until no later than March 6, 2001.

Dated: December 29, 2000.
Joseph A. Spetrini,
Deputy Assistant Secretary, AD/CVD Enforcement Group III.

[FR Doc. 01-383 Filed 1-4-01; 8:45 am]

BILLING CODE 3510-DS-P